Title 3—

The President

Proclamation 8216 of January 16, 2008

Martin Luther King, Jr., Federal Holiday, 2008

By the President of the United States of America

A Proclamation

Dr. Martin Luther King, Jr., changed our Nation forever through his leadership, service, and clarity of vision. On the Martin Luther King, Jr., Federal Holiday, we honor the lasting legacy of this great American, remember the ideals for which he fought, and recommit ourselves to ensuring that our country's promise extends to all Americans across this great land.

In the brief time Dr. King walked upon this earth, he devoted his life to strengthening the content of the American character and called on our Nation to live up to its founding principles of life, liberty, and the pursuit of happiness for all its citizens. Dr. King's faith in the Almighty gave him the courage to confront discrimination and segregation, and he preached that all the powers of evil are ultimately no match for even one individual armed with eternal truths. Through his determination, spirit, and resolve, Dr. King helped lift souls and lead one of the greatest movements for equality and freedom in history.

Our Nation has made progress toward realizing Dr. King's dream, yet the work to achieve liberty and justice for all is never-ending. In July of 2006, I was honored to sign the “Fannie Lou Hamer, Rosa Parks, and Coretta Scott King Voting Rights Act Reauthorization and Amendments Act of 2006,” to renew the Voting Rights Act of 1965 and reaffirm our commitment to securing the voting rights of all Americans. My Administration will continue to protect the rights won through the sacrifice of Dr. King and other civil rights leaders, and our country will never rest until equality is real, opportunity is universal, and all citizens are empowered to realize their dreams.

As we observe Dr. King's birthday, I encourage all Americans to celebrate his memory by performing acts of kindness through service to others. Let us live out Dr. King's teachings as we continue to work for the day when the dignity and humanity of every person is respected.

NOW, THEREFORE, I, GEORGE W. BUSH, President of the United States of America, by virtue of the authority vested in me by the Constitution and laws of the United States, do hereby proclaim January 21, 2008, as the Martin Luther King, Jr., Federal Holiday. I encourage all Americans to observe this day with appropriate civic, community, and service programs and activities in honor of Dr. King's life and legacy.

IN WITNESS WHEREOF, I have hereunto set my hand this sixteenth day of January, in the year of our Lord two thousand eight, and of the Independence of the United States of America the two hundred and thirty-second.

[FR Doc. 08-255

Filed 1-18-08; 8:51 am]

Billing code 3195-01-P